DEPARTMENT OF JUSTICE

Antitrust Division

Notice Pursuant to the National Cooperative Research and Production Act of 1993—Management of Accelerated Technology Insertion II (MATI II)

Notice is hereby given that, on October 15, 1999, pursuant to section 6(a) of the National Cooperative Research and Production Act of 1993, 15 U.S.C. 4301 et seq. (“the Act”), Management of Accelerated Technology Insertion II (MATI II) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are The Coca-Cola Company, Atlanta, GA; Ford Motor Company, Redford, MI; IBD Inc., Winnetka, IL; Kellogg Company, Battle Creek, MI; Kraft Foods, Glenview, IL; Lucent Technologies, Murray Hill, NJ; McDonald's Corporation, Warrenville, IL; Redex Packaging Corporation, Schaumburg, IL; Rohm and Haas Company, Spring House, PA; and U.S.G. Corporation, Chicago, IL. Technologies Research Corporation of Ann Arbor, MI, has been engaged to administer the venture on behalf of the participants. The nature and objectives of the venture are to undertake research and development activities focusing on managing insertion 1f advanced technology.

Constance K. Robinson,
Director of Operations, Antitrust Division.

[FR Doc. 00-12047 Filed 5-11-00; 8:45 am]

BILLING CODE 4410-11-M